DEPARTMENT OF DEFENSE

Department of the Army, Corps of Engineers

Notice of Availability of the Record of Decision for the Final Missouri River Recovery Management Plan and Environmental Impact Statement

AGENCY: Department of the Army, U.S. Army Corps of Engineers, DoD.

ACTION: Notice; availability of the Record of Decision.

SUMMARY: The U.S. Army Corps of Engineers (USACE) announces the availability of the Record of Decision (ROD) for the Final Missouri River Recovery Management Plan and Environmental Impact Statement (MRRMP-FEIS) published in the Federal Register on Friday, August 31, 2018. The USACE Northwestern Division Commander signed the ROD on November 20, 2018. Copies of the ROD along with the MRRMP-FEIS and other supporting documents are available for viewing on the Missouri River Recovery Program website at: http://www.nwo.usace.army.mil/mrrp/mgmt-plan/.

FOR FURTHER INFORMATION CONTACT: Tiffany Vanosdall, U.S. Army Corps of Engineers at (402) 995-2695 or by email at tiffany.k.vanosdall@usace.army.mil.

SUPPLEMENTARY INFORMATION: The USACE has developed the MRRMP-FEIS in cooperation with the U.S. Fish and Wildlife Service (USFWS). This document is the USACE Record of Decision for the MRRMP-FEIS dated August, 2018. The MRRMP-FEIS is a programmatic assessment of major federal actions necessary to avoid a finding of jeopardy for the pallid sturgeon (Scaphirhynchus albus), interior least tern (Sterna antillarum), and the Northern Great Plains piping plover (Charadrius melodus) caused by operation of the Missouri and Kansas River reservoir systems and operation and maintenance of the Missouri River Bank Stabilization and Navigation Project. After consultation with the USFWS, and extensive collaboration, analysis, and independent scientific review, USACE has identified Alternative 3 (Mechanical Construction Only) as the selected alternative. Alternative 3 will meet the species objectives and fulfill the purpose and need of the plan while avoiding and minimizing adverse impacts to stakeholders. Importantly, Alternative 3 would be implemented within an adaptive management framework detailed in the Science and Adaptive Management Plan (SAMP). The ROD documents why the USACE has chosen to implement Alternative 3 as described in the MRRMP-FEIS.

Brenda S. Bowen,
Army Federal Register Liaison Officer.

[FR Doc. 2018-26040 Filed 11-29-18; 8:45 am]

BILLING CODE 3720-58-P